ENVIRONMENTAL PROTECTION AGENCY

[FRL-6586-5]

Agency Information Collection Activities: Proposed Collection; Comment Request; 2000 Meat Products Industry Survey

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): 2000 Meat Products Industry Survey (EPA ICR No. 1961.01). This industry includes red meat and poultry slaughtering, processing and rendering. Before submitting the ICR to OMB for review and approval, EPA is soliciting comments on specific aspects of the proposed information collection as described below.

DATES: Comments must be submitted on or before June 30, 2000.

ADDRESSES: Comments may be mailed to Ms. Samantha Lewis, U.S. EPA (4303), Ariel Rios Building, 1200 Pennsylvania Avenue, NW., Washington, DC 20460. Comments may also be submitted electronically to lewis.samantha@epa.gov.

FOR FURTHER INFORMATION CONTACT: To request a copy of the information collection request, including a draft of the survey instrument, contact Ms. Samantha Lewis at (202)-260-7149.

SUPPLEMENTARY INFORMATION: Affected Entities: Entities potentially affected by this action include red meat and poultry slaughtering, processing and rendering facilities. The survey is intended to identify and collect data from meat product facilities that generate and discharge process wastewater associated with industrial activities.

Title: 2000 Meat Products Industry Survey (EPA ICR No. 1961.01).

Abstract: The survey is intended to collect technical and economic information required by EPA to develop revised effluent limitations guidelines for the meat products industry point source category. The current meat product regulations at 40 CFR 432 do not contain effluent limitations guidelines or pretreatment standards for the poultry slaughtering or processing industry. EPA is required by section 304(m) of the Clean Water Act (33 U.S.C. 1314(m)) to review effluent limitations guidelines and standards periodically. These reviews determine whether the current regulations remain appropriate in light of changes in the industrial category caused by advances in manufacturing technologies, in-process pollution prevention, or end-of-pipe wastewater treatment. EPA is also required by the terms of a Consent Decree with the Natural Resources Defense Council (NRDC), to develop revised effluent limitations guidelines and standards for the Meat Products Industry (D.D.C. Civ. No. 89-2980, January 31, 1992, as modified). This survey is being conducted pursuant to those legislative and judicial requirements.

This survey instrument will be issued under authority of section 308 of the Clean Water Act of 1987 (Federal Water Pollution Control Act, 5 U.S.C. 1318); responses from data collection survey instrument recipients will be mandatory. The survey instrument will be mailed to respondents after OMB approves the ICR. The ICR submitted by EPA to OMB will include discussion of the comments received in response to today's announcement.

The proposed survey instrument is a necessary part of the effluent limitations guidelines development process. The proposed survey instrument will provide EPA with the technical and economic data required to evaluate effective pollution control technologies and the economic achievability of any final rule that the Agency issues. Any burden reduction suggestions must consider the need to collect information on the pollutants being discharged by the industries, the processes that generate the pollutants, alternative controls, the economic achievability of the proposed regulations, and the benefits derived from reducing pollution in our oceans, lakes, rivers, and streams. EPA will consider both technical performance and economic achievability when making final decisions on 40 CFR part 432.

Regulations governing the confidentiality of business information are contained in the Code of Federal Regulations (CFR) at Title 40 Part 2, Subpart B. A business confidentiality claim may be submitted by the respondent covering part or all of the response to this survey, other than effluent data, as described in 40 CFR 2.203(b):

(b) Method and time of asserting business confidentiality claim. A business which is submitting information to EPA may assert a business confidentiality claim covering the information by placing on (or attaching to) the information, at the time it is submitted to EPA, a cover sheet, stamped or typed legend, or other suitable form of notice complying language such as ‘trade secret,’ ‘proprietary,’ or ‘company confidential.’ Allegedly confidential portions of otherwise nonconfidential documents should be clearly identified by the business, and may be submitted separately to facilitate identification and handling by EPA. If the business desires confidential treatment only until a certain date or until the occurrence of a certain event, the notice should so state.

If no business confidentiality claim accompanies the information when it is received by EPA, EPA may make the information available to the public without further notice.

The proposed survey instrument was developed in such a manner as to reduce burden and improve clarity. EPA has conducted one outreach meeting with the major industry trade associations. Additionally, the survey instrument was distributed in advance of this notice to industry trade associations, including: American Meat Institute, National Chicken Council, and the National Renderers Association.

Because of the complexity of the industry and the substantial changes in the meat products industry since 40 CFR Part 432 was promulgated over twenty years ago, EPA has decided to prepare a survey instrument to characterize accurately current conditions in the meat products industry as a basis for establishing equitable regulations.

EPA sometimes develops and distributes a screener questionnaire in order to better define the target population for a regulation. The screener allows the agency to eliminate facilities from consideration which are not anticipated to fit under the scope of the regulation. However, for the meat products industry, a number of factors make this additional step unnecessary. These factors include the existence of well-organized trade associations, facility lists from a variety of data sources, and past agency experience. EPA believes that the facilities potentially affected by this regulation can be adequately characterized by sending the questionnaire to only a percentage of facilities in the industry (approximately 250 facilities). (This number may change before the survey is mailed as we refine our methodology for determining the percentage of facilities to receive the questionnaire.) Therefore, there will be no screener questionnaire. The Agency solicits comment on this decision.

Finally, EPA will maintain a temporary, toll-free telephone number once the survey instrument has been mailed that survey recipients may call to obtain assistance in completing the survey instrument. EPA believes that the toll-free telephone number will greatly reduce burden by helping recipients to answer specific questions within the context of their individual operations.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The EPA burden estimate on industrial facilities is based on an estimated 250 facilities completing the questionnaire with different configurations of meat product processes (large complex slaughterhouses to small stand alone facilities). EPA estimates that the total cost burden will be approximately $521,250 and the hour burden will be 7,500 hours, as described in more detail in the tables below.

Respondent Average Burden per Survey Response Activity
Respondent activity | Total burden per activity (hours)
Read Instructions | 3
Gather Information/Data | 12
Complete Survey Form | 12
Review Survey Responses | 3
All Activities | 30

Collection of Meat Products Industry Data, Total Respondent Burden and Costs
Total number of responses | Average burden per respondent (in hours) | Total burden (in hours) | Average labor costs per respondent (in dollars) | Total labor costs (in dollars) | Average O&M costs per respondent (in dollars) | Total O&M cost (in dollars) | Total costs (in dollars)
250 | 30 | 7,500 | $2,076 | $519,000 | $9.00 | $2,250 | $521,250

In addition, EPA also solicits comments and suggestions regarding the substance and form of the draft survey instrument. For example, are the directions and questions clear and concise; are the definitions consistent with industry jargon and use of terms; are the right questions in the survey; if not, please suggest more appropriate ones; do the questions adequately cover all pertinent factors relevant to developing equitable guidelines; if not, what needs to be added? EPA is also soliciting comments on means of reducing the data collection burden.

Dated: April 24, 2000.
James Hanlon,
Acting Director, Office of Science and Technology.

[FR Doc. 00-10771 Filed 4-28-00; 8:45 am]

BILLING CODE 6560-50-P